DEPARTMENT OF ENERGY

Federal Energy Regulatory Commission

[Docket No. EL11-53-000]

Shetek Wind Inc. Jeffers South, LLC Allco Renewable Energy Limited v. Midwest Independent Transmission System Operator, Inc.; Notice of Complaint

Take notice that on July 15, 2011, pursuant to sections 206, 306, and 309 of the Federal Power Act (FPA), 16 U.S.C. 824e, 825e, and 825h, and Rules 206 and 212 of the Federal Energy Regulatory Commission's (Commission) Rules of Practice and Procedure, 18 CFR 385.206 and 385.212 (2010), Shetek Wind Inc., Jeffers South, LLC, and Allco Renewable Energy Limited (collectively Complainants) filed a formal complaint against the Midwest Independent Transmission System Operator (Midwest ISO or Respondent), and the applicable Midwest ISO Tariff on file with the Commission, alleging that Midwest ISO has not properly implemented the interconnection procedures contained in its Tariff, and, therefore, has engaged in practices that are contrary to the Tariff on file with the Commission and are unjust and unreasonable in violation of the Federal Power Act.

The Complainants certify that copies of the complaint were served on the contacts for Midwest ISO and other potentially interested entities as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 4, 2011.

Dated: July 15, 2011.
Kimberly D. Bose,
Secretary.

[FR Doc. 2011-18440 Filed 7-20-11; 8:45 am]

BILLING CODE 6717-01-P